DEPARTMENT OF ENERGY

Federal Energy Regulatory Commission

[Docket Nos. RP00-469-003 and RP01-22-005]

East Tennessee Natural Gas Company; Notice of Compliance Filing

April 11, 2002.

Take notice that on March 27, 2002, East Tennessee Natural Gas Company (East Tennessee) tendered for filing as part of its FERC Gas Tariff, Original Volume No. 1, the revised tariff sheets listed on Appendix A and Appendix B of the filing.

East Tennessee states that the purpose of this filing is to comply with the Commission's January 30, 2002 Order on East Tennessee's Order No. 637 Settlement.

East Tennessee states that copies of its filing have been mailed to all parties on the official service lists compiled by the Secretary of the Commission in these proceedings.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-9291 Filed 4-16-02; 8:45 am]

BILLING CODE 6717-01-P